DEPARTMENT OF ENERGY

Federal Energy Regulatory Commission

[Docket Nos. ER96-25-022. et al.]

Coral Power, L.L.C., et al.; Electric Rate and Corporate Filings

August 21, 2003.

The following filings have been made with the Commission. The filings are listed in ascending order within each docket classification.

1. Coral Power, L.L.C., Coral Energy Management, LLC, Coral Canada U.S. Inc.

[Docket Nos. ER96-25-022, ER01-1363-002, ER01-3017-002]

Take notice that on August 18, 2003, Coral Power, L.L.C. (Coral Power), Coral Energy Management, LLC (Coral EM) and Coral Canada U.S. Inc. (Coral Canada), filed with the Federal Energy Regulatory Commission their consolidated three-year updated market power analysis. Coral Power, Coral EM and Coral Canada state that they are power marketers and brokers with their principal place of business in Houston, Texas and do not directly own or control generation or transmission assets.

Comment Date: September 8, 2003.

2. Galt Power, Inc.

[Docket No. ER03-1001-001]

Take notice that on August 12, 2003, Galt Power, Inc. (Galt Power) submitted an amended petition to the Commission for acceptance of Galt Power Rate Schedule FERC No. 1; the granting of certain blanket approvals, including the authority to sell electricity at market-based rates; and the waiver of certain Commission regulations.

Galt Power states that it intends to engage in wholesale electric power and energy purchases and sales as a marketer. Galt Power also states that it is not in the business of generating or transmitting electric power.

Comment Date: September 3, 2003.

3. Tex Par Energy, Inc.

[Docket No. ER03-1219-000]

Take notice that on August 15, 2003, TexPar Energy, Inc. tendered for filing a Notice of Cancellation of its market-based rate authority and reporting of electric power sales transactions and agreements. TexPar Energy, Inc., states that the cancellation should take effect August 8, 2003, and has not entered into any contracts to sell power. Comment Date: September 5, 2003.

4. Southern Company Services, Inc.

[Docket No. ER03-1220-000]

Take notice that on August 18, 2003, Southern Company Services, Inc. (SCS), acting on behalf of Alabama Power Company, Georgia Power Company, Gulf Power Company, Mississippi Power Company, and Savannah Electric and Power Company (collectively Southern Companies), filed a Notice of Cancellation of Service Schedules A and B of the Interchange Contract dated December 15, 1980 between the City of Tallahassee, Florida, and Southern Companies (Rate Schedule FERC No. 62). These cancellations were made pursuant to a bilateral amendment to the Interchange Contract. Comment Date: September 8, 2003.

5. California Independent System Operator Corporation

[Docket No. ER03-1221-000]

Take notice that on August 18, 2003, the California Independent System Operator Corporation (ISO), tendered for filing a revision to the ISO Tariff, Amendment No. 56 for acceptance by the Commission. The ISO states that the purpose of the amendment is to modify Tariff provisions regarding Dispatching and Scheduling Reliability Must-Run Energy to reflect the demise of the California Power Exchange.

The ISO states that this filing has been served on the Public Utilities Commission of California, the California Energy Commission, the California Electricity Oversight Board, the Participating TOs, Trans-Elect, and all parties with effective Scheduling Coordinator Agreements under the ISO Tariff. The ISO is requesting the amendment to be made effective in sixty days.

Comment Date: September 8, 2003.

6. California Independent System Operator Corporation

[Docket No. ER03-1222-000]

Take notice that on August 18, 2003, the California Independent System Operator Corporation (ISO), tendered for filing a revision to the ISO Tariff, Amendment No. 57, for acceptance by the Commission. The ISO states that this filing is an addendum to Amendment No. 49 and that this filing should complete resolution of revenue disbursement to a New Participating Transmission Owner that does not serve End-Use Customers.

The ISO states that this filing has been served on the Public Utilities Commission of California, the California Energy Commission, the California Electricity Oversight Board, the Participating TOs, Trans-Elect, and all parties with effective Scheduling Coordinator Agreements under the ISO Tariff. The ISO is requesting the amendment to be made effective in sixty days.

Comment Date: September 8, 2003.

7. Montana Mid-Merit Power, LLC, NorthWestern Energy Division of NorthWestern Energy Corp.

[Docket No. ER03-1223-000]

Take notice that on August 18, 2003, Montana Megawatts I, LLC (MMI) and NorthWestern Energy Division of NorthWestern Corporation (NWE), tendered for filing a power purchase agreement, as amended, under which MMI states it will sell capacity and energy at cost-based rates to NWE pursuant to Section 205 of the Federal Power Act.

Comment Date: September 8, 2003.

8. Philadelphia Gas Works

[Docket No. ER03-1225-000]

Take notice that on August 18, 2003, Philadelphia Gas Works tendered for filing a Notice of Cancellation, pursuant to 18 CFR 35.15, giving notice of cancellation of its market-based electric tariff filed with the Commission.

Comment Date: September 8, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the eLibrary (FERRIS) link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. 03-22217 Filed 8-29-03; 8:45 am]

BILLING CODE 6717-01-P